FEDERAL ELECTION COMMISSION

[Notice 2017-06]

Filing Dates for the Alabama Senate Special Elections

AGENCY: Federal Election Commission.

ACTION: Notice of filing dates for special election.

SUMMARY: Alabama has scheduled special elections to fill the U.S. Senate seat vacated by Senator Jeff Sessions. There are three possible special elections, but only two may be necessary.

• Primary Election: June 5, 2018.

• Possible Runoff Election: July 17, 2018. In the event that one candidate does not achieve a majority vote in his/her party's Special Primary Election, the top two vote-getters will participate in a Special Runoff Election.

• General Election: November 6, 2018.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

Special Primary Only

All principal campaign committees of candidates only participating in the Alabama Special Primary shall file a Pre-Primary Report on May 24, 2018. (See charts below for the closing date for the report).

Special Primary and General Without Runoff

If only two elections are held, all principal campaign committees of candidates participating in the Alabama Special Primary and Special General Elections shall file a Pre-Primary Report on May 24, 2018; a Pre-General Report on October 25, 2018; and a Post-General Report on December 6, 2018. (See charts below for the closing date for each report).

Special Primary and Runoff Elections

If three elections are held, all principal campaign committees of candidates only participating in the Alabama Special Primary and Special Runoff Elections shall file a Pre-Primary Report on May 24, 2018; and a Pre-Runoff Report on July 5, 2018. (See charts below for the closing date for each report.)

Special Primary, Runoff and General Elections

All principal campaign committees of candidates participating in the Alabama Special Primary, Special Runoff and Special General Elections shall file a Pre-Primary Report on May 24, 2018; a Pre-Runoff Report on July 5, 2018; a Pre-General Report on October 25, 2018; and a Post-General Report on December 6, 2018. (See charts below for the closing date for each report.)

Note that these reports are in addition to the campaign committee's regular quarterly filings. (See charts below for the closing date for each report).

Unauthorized Committees (PACs and Party Committees)

Political committees filing on a quarterly basis in 2018 are subject to special election reporting if they make previously undisclosed contributions or expenditures in connection with the Alabama Special Primary, Special Runoff or Special General Elections by the close of books for the applicable report(s). (See charts below for the closing date for each report.)

Committees filing monthly that make contributions or expenditures in connection with the Alabama Special Primary, Special Runoff or Special General Election will continue to file according to the monthly reporting schedule.

Additional disclosure information in connection with the Alabama Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (See charts below for closing date of each period.) 11 CFR 104.22(a)(5)(v), (b).

The lobbyist bundling disclosure threshold for calendar year 2017 is $17,900. This threshold amount may increase in 2018 based upon the annual cost of living adjustment (COLA). Once the adjusted threshold amount becomes available, the Commission will publish it in the Federal Register and post it on its Web site. 11 CFR 110.17(e)(2). For more information on these requirements, see Federal Register Notice 2009-03, 74 FR 7285 (February 17, 2009).

Calendar of Reporting Dates for Alabama Special Election
Report | Close of books ¹ | Reg./cert. & overnight mailing deadline | Filing deadline
Political Committees Involved in Only the Special Primary (06/05/18) Must File
Pre-Primary | 05/16/18 | 05/21/18 | 05/24/18
July Quarterly | 06/30/18 | 07/15/18 | ² 07/15/18
If Only Two Elections are Held, Political Committees Involved in Both the Special Primary (06/05/18) and Special General (11/06/18) Must File
Pre-Primary | 05/16/18 | 05/21/18 | 05/24/18
July Quarterly | 06/30/18 | 07/15/18 | ² 07/15/18
October Quarterly | 09/30/18 | 10/15/18 | 10/15/18
Pre-General | 10/17/18 | 10/22/18 | 10/25/18
Post-General | 11/26/18 | 12/06/18 | 12/06/18
Year-End | 12/31/18 | 01/31/19 | 01/31/19
If Only Two Elections are Held, Political Committees Involved in Only the Special General (11/06/18) Must File
Pre-General | 10/17/18 | 10/22/18 | 10/25/18
Post-General | 11/26/18 | 12/06/18 | 12/06/18
Year-End | 12/31/18 | 01/31/19 | 01/31/19
If Three Elections are Held, Political Committees Involved in Only the Special Primary (06/05/18) and Special Runoff (07/17/18) Must File
Pre-Primary | 05/16/18 | 05/21/18 | 05/24/18
Pre-Runoff | 06/27/18 | 07/02/18 | 07/05/18
July Quarterly | —WAIVED—
October Quarterly | 09/30/18 | 10/15/18 | 10/15/18
If Three Elections are Held, Political Committees Involved in Only the Special Runoff (07/17/18) Must File
Pre-Runoff | 06/27/18 | 07/02/18 | 07/05/18
July Quarterly | —WAIVED—
October Quarterly | 09/30/18 | 10/15/18 | 10/15/18
Political Committees Involved in the Special Primary (06/05/18), Special Runoff (07/17/18) and Special General (11/06/18) Must File
Pre-Primary | 05/16/18 | 05/21/18 | 05/24/18
Pre-Runoff | 06/27/18 | 07/02/18 | 07/05/18
July Quarterly | —WAIVED—
October Quarterly | 09/30/18 | 10/15/18 | 10/15/18
Pre-General | 10/17/18 | 10/22/18 | 10/25/18
Post-General | 11/26/18 | 12/06/18 | 12/06/18
Year-End | 12/31/18 | 01/31/19 | 01/31/19
If Three Elections are Held, Political Committees Involved in Only the Special General (11/06/18) Must File
Pre-General | 10/17/18 | 10/22/18 | 10/25/18
Post-General | 11/26/18 | 12/06/18 | 12/06/18
Year-End | 12/31/18 | 01/31/19 | 01/31/19
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

On behalf of the Commission.
Dated: February 22, 2017.
Steven T. Walther,
Chairman, Federal Election Commission.

[FR Doc. 2017-03893 Filed 2-27-17; 8:45 am]

BILLING CODE 6715-01-P